DEPARTMENT OF COMMERCE

National Institute of Standards and Technology

International Code Council: The Update Process for the International Codes and Standards

AGENCY: National Institute of Standards and Technology, Commerce.

ACTION: Notice.

SUMMARY: The International Code Council (ICC), promulgator of the International Codes and Standards, maintains a process for updating the entire family of International Codes based on receipt of proposals from interested individuals and organizations involved in the construction industry as well as the general public. The codes are updated every three years (2009—current edition, 2012, 2015 editions, etc.). In the past, the codes were updated on 2-18 month cycles, with an intervening supplement between cycles. Starting with the 2009/2010 Cycle, ICC is transitioning to a development cycle where there will only be a single cycle of code development with the codes split into two groups. For each group of codes, there are two hearings for each code development cycle; the first where a committee considers the proposals and recommends an action on each proposal and the second to consider comments submitted in response to the committee action on proposals.

The purpose of this notice is to increase public participation in the system used by ICC to develop and maintain its codes and standards. The publication of this notice by the National Institute of Standards and Technology (NIST) on behalf of ICC is being undertaken as a public service; NIST does not necessarily endorse, approve, or recommend any of the codes or standards referenced in the notice.

DATES: The date of the next code development hearing is October 24-November 11, 2009 in Baltimore, Maryland at the Hilton Baltimore.

Completion of this cycle results in the 2012 edition of the International Codes which are scheduled to be published by April 2011. For detailed information on the 2009/2010 Cycle, go to: http://www.iccsafe.org/cs/codes/2009-10cycle/index.html

FOR FURTHER INFORMATION CONTACT: Mike Pfeiffer, PE, Secretary, Code Development, 4051 West Flossmoor Road, Country Club Hills, Illinois 60478; Telephone 708-799-2300, Extension 4338.

SUPPLEMENTARY INFORMATION:

Background

ICC produces the only family of Codes and Standards that are comprehensive, coordinated, and necessary to regulate the built environment. Federal agencies frequently use these codes and standards as the basis for developing Federal regulations concerning new and existing construction.

The Code Development Process is initiated when proposals from interested persons, supported by written data, views, or arguments are solicited and published in the Proposed Changes document. This document is posted a minimum of 30 days in advance of the first hearing and serves as the agenda.

At the first hearing, the ICC Code Development Committee considers testimony on every proposal and acts on each one individually (Approval, Disapproval, or Approval as Modified). The results are published in a report entitled the Report of the Public Hearing, which identifies the disposition of each proposal and the reason for the committee's action. Anyone wishing to submit a comment on the committee's action, expressing support or opposition to the action, is provided the opportunity to do so. Comments received are published and distributed in a document called the Final Action Agenda which serves as the agenda for the second hearing. Proposals which are approved at the second hearing are incorporated in the subsequent Edition, with the next cycle starting with the submittal deadline for proposals.

ICC maintains a mailing list of interested parties who will be sent a complimentary CD, free of charge, of all code development documents from ICC's Chicago District Office:

International Code Council, 4051 W Flossmoor Road, Country Club Hills, Illinois 60478; or download a copy from the ICC Web site noted previously.

The International Codes and Standards consist of the following:

ICC Codes

International Building Code.

International Energy Conservation Code.

International Existing Building Code.

International Fire Code.

International Fuel Gas Code.

International Mechanical Code.

ICC Performance Code for Buildings and Facilities.

International Plumbing Code.

International Private Sewage Disposal Code.

International Property Maintenance Code.

International Residential Code.

International Wildland-Urban Interface Code.

International Zoning Code.

ICC Standards

ICC A 117.1 Accessible and Usable Buildings and Facilities.

ICC 300: Standard on Bleachers, Folding and Telescopic Seating and Grandstands.

ICC 400: Standard on the Design and Construction of Log Structures.

ICC 500: ICC/NSSA Standard on the Design and Construction of Storm Shelters.

ICC 600: Standard for Residential Construction in High Wind Areas.

The maintenance process for ICC Standards such as ICC A117.1 follows a similar process of soliciting proposals, committee action, public comment and ultimately the update and publication of the standard. ICC's Standard development process meets ANSI requirements for standard's development.

ICC has recently begun the development of the International Green Construction Code which will become part of the family of 2012 International Codes (“I-Codes”). For information on its development: http://www.iccsafe.org/IGCC

Dated: August 31, 2009.
Katharine B. Gebbie,
Director, Physics Laboratory.

[FR Doc. E9-21393 Filed 9-3-09; 8:45 am]

BILLING CODE 3510-13-P